DEPARTMENT OF THE INTERIOR

National Park Service

[N6896; NPS-WASO-NAGPRA-NPS0041893; PPWOCRADN0-PCU00RP14.R50000]

Notice of Intended Repatriation: Castine Scientific Society D.B.A. Wilson Museum, Castine, ME

AGENCY: National Park Service, Interior.

ACTION: Notice.

SUMMARY: In accordance with the Native American Graves Protection and Repatriation Act (NAGPRA), the Wilson Museum intends to repatriate a certain cultural item that meets the definition of a sacred objects and that has a cultural affiliation with the Indian Tribes or Native Hawaiian organizations in this notice.

DATES: Repatriation of the cultural item in this notice may occur on or after February 26, 2026.

ADDRESSES: Send additional, written requests for repatriation of the cultural item in this notice to Abby Dunham, Wilson Museum, P.O. Box 196, 120 Perkins Street, Castine, ME 04421, email repatriation@wilsonmuseum.org.

SUPPLEMENTARY INFORMATION: This notice is published as part of the National Park Service's administrative responsibilities under NAGPRA. The determinations in this notice are the sole responsibility of the Wilson Museum, and additional information on the determinations in this notice, including the results of consultation, can be found in the summary or related records. The National Park Service is not responsible for the determinations in this notice.

Abstract of Information Available

A total of one cultural item has been requested for repatriation consisting of one sacred object.

The one sacred object is a wooden medicine man's mask from the North Pacific Coast, acquired at an unknown point by Anton Heitmuller, purchased from the Heitmuller Art Company by or for the Wilson Museum in 1926.

Determinations

The Wilson Museum has determined that:

• The one sacred object described in this notice is a specific ceremonial object needed by a traditional Native American religious leader for present-day adherents to practice traditional Native American religion, according to the Native American traditional knowledge of a lineal descendant, Indian Tribe, or Native Hawaiian organization.

• There is a connection between the cultural item described in this notice and the Jamestown S'Klallam Tribe.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after February 26, 2026. If competing requests for repatriation are received, the Wilson Museum must determine the most appropriate requestor prior to repatriation. Requests for joint repatriation of the cultural item are considered a single request and not competing requests. The Wilson Museum is responsible for sending a copy of this notice to the Indian Tribes and Native Hawaiian organizations identified in this notice and to any other consulting parties.

Authority: Native American Graves Protection and Repatriation Act, 25 U.S.C. 3004 and the implementing regulations, 43 CFR 10.9.

Dated: January 15, 2026.
Melanie O'Brien,
Manager, National NAGPRA Program.

[FR Doc. 2026-01543 Filed 1-26-26; 8:45 am]

BILLING CODE 4312-52-P